DEPARTMENT OF THE INTERIOR

Bureau of Land Management

[Docket No. WY-920-1050-ET; WYW 87233]

Public Land Order No. 7678; Extension of Public Land Order No. 6650; Wyoming

AGENCY: Bureau of Land Management, Interior.

ACTION: Public Land Order.

SUMMARY: This order extends Public Land Order No. 6650 for an additional 20-year period. This extension is necessary to continue the protection of the Sugarloaf Petroglyphs and Pine Spring Archeological Sites in Sweetwater County.

EFFECTIVE DATE: June 23, 2007.

FOR FURTHER INFORMATION CONTACT: Janet Booth, BLM Wyoming State Office, 5353 N. Yellowstone Road, P.O. Box 1828, Cheyenne, Wyoming 82003, 307-775-6124.

Order

By virtue of the authority vested in the Secretary of the Interior by Section 204 of the Federal Land Policy and Management Act of 1976, 43 U.S.C. 1714 (2000), it is ordered as follows:

1. Public Land No. 6650 (52 FR 23549, June 23, 1987), which withdrew 20 acres of public lands from surface entry and mining to protect the Sugarloaf Petroglyphs and Pine Spring Archeological Sites, is hereby extended for an additional 20-year period.

2. Public Land Order No. 6650 will expire on June 22, 2007, unless, as a result of a review conducted prior to the expiration date pursuant to Section 204(f) of the Federal Land Policy and Management Act of 1976, 43 U.S.C. 1714(f)(2000), the Secretary determines that the withdrawal shall be extended.

Dated: June 7, 2007.
C. Stephen Allred,
Assistant Secretary of the Interior.

[FR Doc. 07-3135 Filed 6-21-07; 4:37 pm]

BILLING CODE 4310-22-P